DEPARTMENT OF TRANSPORTATION

Federal Aviation Administration

14 CFR Part 39

[Docket No. FAA-2016-3343; Product Identifier 2015-SW-078-AD; Amendment 39-21353; AD 2020-25-11]

RIN 2120-AA64

Airworthiness Directives; Airbus Helicopters

AGENCY: Federal Aviation Administration (FAA), DOT.

ACTION: Final rule.

SUMMARY: The FAA is superseding Airworthiness Directive (AD) 2014-12-12, which applied to certain Airbus Helicopters Model EC120B and EC130B4 helicopters. AD 2014-12-12 required inspecting and, if necessary, replacing parts of the sliding door star support attachment assembly. This AD requires modifying the sliding door star support stringer as specified in a European Union Aviation Safety Agency (EASA) AD, which is incorporated by reference (IBR). This AD was prompted by several incidents involving helicopter left-hand side doors (both swinging and sliding) that revealed weaknesses in the locking mechanism. The FAA is issuing this AD to address the unsafe condition on these products.

DATES: This AD is effective January 21, 2021.

The Director of the Federal Register approved the incorporation by reference of a certain publication listed in this AD as of January 21, 2021.

ADDRESSES: For material incorporated by reference in this AD, contact the EASA, Konrad-Adenauer-Ufer 3, 50668 Cologne, Germany; telephone +49 221 8999 000; email ADs@easa.europa.eu; internet www.easa.europa.eu. You may find this material on the EASA website at https://ad.easa.europa.eu. You may view this material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2016-3343.

Examining the AD Docket

You may examine the AD docket on the internet at https://www.regulations.gov by searching for and locating Docket No. FAA-2016-3343; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Kathleen Arrigotti, Aerospace Engineer, Large Aircraft Section, International Validation Branch, FAA, 2200 South 216th St., Des Moines, WA; telephone 206-231-3218; email kathleen.arrigotti@faa.gov.

SUPPLEMENTARY INFORMATION:

Discussion

The EASA, which is the Technical Agent for the Member States of the European Union, has issued EASA AD 2020-0095, dated April 29, 2020 (EASA AD 2020-0095), to correct an unsafe condition for certain Airbus Helicopters Model EC120B and EC130B4 helicopters.

The FAA issued a supplemental notice of proposed rulemaking (SNPRM) to amend 14 CFR part 39 by adding an AD to supersede AD 2014-12-12, Amendment 39-17873 (79 FR 36638, June 30, 2014) (AD 2014-12-12). AD 2014-12-12 applied to certain Airbus Helicopters Model EC120B and EC130B4 helicopters. The SNPRM published in the Federal Register on September 22, 2020 (85 FR 59454). The FAA preceded the SNPRM with a notice of proposed rulemaking (NPRM) that published in the Federal Register on October 26, 2016 (81 FR 74362). The NPRM was prompted by the determination to expand the applicability to all serial-numbered EC120B helicopters with affected sliding doors installed and require compliance with revised service information. The NPRM proposed to require inspecting each upper and lower locking pin control rod end fitting and replacing it if necessary, cleaning and dye-penetrant inspecting the star support pin for cracking and replacing it if necessary, and reinforcing the sliding door star support stringer. The SNPRM proposed to require modifying the door locking/unlocking mechanism, as specified in EASA AD 2020-0095.

The FAA is proposing this AD to address failure of the sliding door star support, which could inhibit the operation of the sliding door from the inside, delaying the evacuation of passengers during an emergency. See EASA AD 2020-0095 for additional background information.

Comments

The FAA gave the public the opportunity to participate in developing this final rule. The FAA received no comments on the SNPRM or on the determination of the cost to the public.

Conclusion

The FAA reviewed the relevant data and determined that air safety and the public interest require adopting this final rule as proposed, except for minor editorial changes and an exception that does not affect helicopters of U.S. registry. The FAA has determined that these minor changes:

• Are consistent with the intent that was proposed in the SNPRM for addressing the unsafe condition; and

• Do not add any additional burden upon the public than was already proposed in-the SNPRM.

Related Service Information Under 1 CFR Part 51

The FAA reviewed EASA AD 2020-0095, which describes improved procedures for modifying the door locking/unlocking mechanism (e.g. modifying the sliding door star support by installing a reinforcing bracket and replacing rod ends).

This material is reasonably available because the interested parties have access to it through their normal course of business or by the means identified in the ADDRESSES section.

Differences Between This AD and the EASA AD

EASA AD 2020-0095 specifies to do the modification within 24 months. This AD requires the modification be done within 460 hours time-in-service (TIS), based on an average of 230 hours TIS per year. The FAA has determined this compliance time represents the maximum interval of time allowable for the affected helicopters to continue to safely operate before the modification is done. While EASA AD 2020-0095 allows credit for Airbus Helicopters Alert Service Bulletin No. EC120-52A018, Revision 0, dated November 13, 2015 (ASB EC120-52A018 at original issue), this AD does not because the applicable helicopter is not U.S.-registered.

Costs of Compliance

The FAA estimates that this AD would affect 261 helicopters of U.S. Registry. Labor rates are estimated at $85 per work-hour. Based on these numbers, the FAA estimates that operators may incur the following costs in order to comply with this proposed AD.

Modifying the door locking/unlocking mechanism takes about 20 work-hours and parts cost about $642 for an estimated cost of $2,342 per helicopter and $611,262 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2014-12-12, Amendment 39-17873 (79 FR 36638, June 30, 2014); and

b. Adding the following new AD:

2020-25-11 Airbus Helicopters: Amendment 39-21353; Docket No. FAA-2016-3343; Product Identifier 2015-SW-078-AD.

(a) Effective Date

This airworthiness directive (AD) is effective January 21, 2021.

(b) Affected ADs

This AD replaces AD 2014-12-12, Amendment 39-17873 (79 FR 36638, June 30, 2014).

(c) Applicability

This AD applies to Airbus Helicopters Model EC120B and EC130B4 helicopters, certificated in any category, as identified in European Union Aviation Safety Agency (EASA) AD 2020-0095, dated April 29, 2020 (EASA AD 2020-0095).

(d) Subject

Joint Aircraft System Component (JASC) Code 5200, Doors.

(e) Reason

This AD was prompted by reports of passengers not being able to open a helicopter's left-hand door after landing. The FAA is issuing this AD to address failure of the sliding door star support, which could inhibit the operation of the sliding door from the inside, delaying the evacuation of passengers during an emergency.

(f) Compliance

Comply with this AD within the compliance times specified, unless already done.

(g) Requirements

Except as specified in paragraph (h) of this AD: Comply with all required actions and compliance times specified in, and in accordance with, EASA AD 2020-0095.

(h) Exceptions to EASA AD 2020-0095

(1) Where EASA AD 2020-0095 refers to its effective date, this AD requires using the effective date of this AD.

(2) Where paragraph (1) of EASA AD 2020-0095 specifies to complete the actions within 24 months after its effective date, this AD requires completion within 460 hours time-in-service after the effective date of this AD.

(3) The “Remarks” section of EASA AD 2020-0095 does not apply to this AD.

(4) Although the service information referenced in EASA AD 2020-0095 specifies to discard certain parts, this AD does not include that requirement.

(5) Where EASA AD 2020-0095 allows credit for Airbus Helicopters Alert Service Bulletin No. EC120-52A018, Revision 0, dated November 13, 2015 (ASB EC120-52A018 at original issue), this AD does not.

(i) Alternative Methods of Compliance (AMOCs)

(1) The Manager, Strategic Policy Rotorcraft Section, FAA, may approve AMOCs for this AD. Send your proposal to: Manager, Strategic Policy Rotorcraft Section, FAA, 10101 Hillwood Pkwy, Fort Worth, TX 76177; telephone 817-222-5110; email 9/ASW/FTW/AMOC-Requests@faa.gov.

(2) Before using any approved AMOC, notify your appropriate principal inspector, or lacking a principal inspector, the manager of the local flight standards district office/certificate holding district office.

(j) Related Information

For more information about this AD, contact Kathleen Arrigotti, Aerospace Engineer, Large Aircraft Section, International Validation Branch, FAA, 2200 South 216th St., Des Moines, WA; telephone 206-231-3218; email kathleen.arrigotti@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0095, dated April 29, 2020.

(ii) [Reserved]

(3) For EASA AD 2020-0095, contact the EASA, Konrad-Adenauer-Ufer 3, 50668 Cologne, Germany; telephone +49 221 8999 000; email ADs@easa.europa.eu; internet www.easa.europa.eu. You may find this EASA AD on the EASA website at https://ad.easa.europa.eu.

(4) You may view this service information at the FAA, Office of the Regional Counsel, Southwest Region, 10101 Hillwood Pkwy, Room 6N-321, Fort Worth, TX 76177. For information on the availability of this material at the FAA, call 817-222-5110. This material may be found in the AD docket on the internet at https://www.regulations.gov by searching for and locating Docket No. FAA-2016-3343.

(5) You may view this material that is incorporated by reference at the National Archives and Records Administration (NARA). For information on the availability of this material at NARA, email fedreg.legal@nara.gov, or go to https://www.archives.gov/federal-register/cfr/ibr-locations.html.

Issued on December 3, 2020.
Gaetano A. Sciortino,
Deputy Director for Strategic Initiatives, Compliance & Airworthiness Division, Aircraft Certification Service.

[FR Doc. 2020-27659 Filed 12-15-20; 8:45 am]

BILLING CODE 4910-13-P